DEPARTMENT OF ENERGY

Federal Energy Regulatory Commission

[Project No. 11077-022, Alaska]

Goat Lake Hydro Inc.; Notice of Availability of Final Environmental Assessment

September 26, 2002.

In accordance with the National Environmental Policy Act of 1969 and the Federal Energy Regulatory Commission's (Commission) regulations, 18 CFR part 380 (Order No. 486, 52 FR 47897), the Office of Energy Projects has reviewed the application for license amendment for the Goat Lake Hydroelectric Project, located on Pitchfork Falls, near the town of Skagway, in the First Judicial District, Alaska, and has prepared a Final Environmental Assessment (FEA) for the project. The project occupies lands of the Tongass National Forest.

The FEA contains the staff's analysis of the potential environmental impacts of the project and concludes that licensing the project, with appropriate environmental protective measures, would not constitute a major federal action that would significantly affect the quality of the human environment.

A copy of the FEA is available for review at the Commission in the Public Reference Room or may be viewed on the Commission's Web site at http://www.ferc.gov using the “FERRIS” link. Enter the docket number excluding the last three digits in the docket number field to access the document. For assistance, call (202) 502-8222 or for TTY, (202) 502-8659.

For further information, contact Michael Henry at (503) 944-6762.

Linwood A. Watson, Jr.,
Deputy Secretary.

[FR Doc. 02-25015 Filed 10-1-02; 8:45 am]

BILLING CODE 6717-01-P